FEDERAL EMERGENCY MANAGEMENT AGENCY

Federal Radiological Preparedness Coordinating Committee: Guidance for Developing State, Tribal, and Local Radiological Emergency Response Planning and Preparedness for Transportation Accidents

AGENCY: Federal Emergency Management Agency (FEMA).

ACTION: Notice of availability.

SUMMARY: FEMA, on behalf of the Federal Radiological Preparedness Coordinating Committee, announces the availability of the final “Guidance for Developing State, Tribal, and Local Radiological Emergency Response Planning and Preparedness for Transportation Accidents,” FEMA-REP-5, Revision 2, dated November 2000.

FOR FURTHER INFORMATION CONTACT: William F. McNutt, Readiness, Response and Recovery Directorate, Federal Emergency Management Agency, 500 C Street, SW., Washington, DC 20472, (202) 646-2857, (facsimile) (202) 646-3508, (e-mail) william.mcnutt@fema.gov.

SUPPLEMENTARY INFORMATION: The Federal Radiological Preparedness Coordinating Committee (FRPCC) is charged under 44 CFR 351.11 with assisting FEMA in providing policy direction for the program of Federal assistance to State and local governments in their radiological emergency preparedness and planning activities. The Transportation Accidents Subcommittee of the FRPCC prepared FEMA-REP-5, Revision 2.

FEMA REP-5, Revision 2 guides State, Tribal and local government officials who prepare or revise emergency response plans for transportation accidents involving radioactive materials. Although use of the guidance is not mandatory, FEMA and the other members of the FRPCC recommend it for use in developing hazard specific plans as part of all-hazards emergency response plans at all levels of government. REP-5 was first published in March 1983. Revision 1 was published in June 1992. Its availability was noticed in 57 FR 33094 (July 24, 1992). A draft version of REP-5 Revision 2 was circulated for public comment on August 5, 1999. 64 FR 42697 (August 5, 1999). The final version of REP-5, Revision 2, which is the subject of this notice, incorporates comments submitted in response to the August 5, 1999 Federal Register notice, as appropriate, and supersedes all previous versions.

To Order Documents: FEMA has mailed 10 copies to each State; 5 of which were sent to the radiological health agency and the to the emergency management agency. Tribal governments, local governments and other interested parties may obtain copies by written request addressed to: Federal Emergency Management Agency, P.O. Box 70274, Washington, DC 20024, or by telephoning the FEMA Distribution Center at 1-800-480-2520. Please refer to FEMA-REP-5, Revision 2 dated November 2000 when requesting this document.

Dated: July 30, 2001.
Russell Salter,
Director, Technological Hazards Division, Readiness, Response and Recovery Directorate, Federal Emergency Management Agency, Chair, Federal Radiological Preparedness Coordinating Committee.

[FR Doc. 01-19687 Filed 8-6-01; 8:45 am]

BILLING CODE 6178-06-P